DEPARTMENT OF TRANSPORTATION

Federal Aviation Administration

Office of Commercial Space Transportation; Notice of Availability of the Finding of No Significant Impact (FONSI) for Actions Related to the Renewal of a Launch Operator License for Pegasus Expendable Launch Vehicles at Wallops Flight Facility, Virginia

AGENCY: Federal Aviation Administration (FAA), Department of Transportation.

ACTION: Notice of Availability of the FONSI.

SUMMARY: In accordance with the National Environmental Policy Act of 1969 (NEPA), 42 U.S.C. 4321-4347 (as amended), Council on Environmental Quality NEPA implementing regulations (40 Code of Federal Regulations [CFR] parts 1500 to 1508), and FAA Order 1050.1E, Change 1, the FAA is announcing the availability of a FONSI, based on the analysis and findings of the January 2005 National Aeronautics and Space Administration (NASA) Final Site-Wide Environmental Assessment (EA) for Wallops Flight Facility, Virginia (hereafter referred to as the 2005 EA). The 2005 EA evaluates the potential environmental impacts of recurring activities and proposed future actions at Wallops Flight Facility (WFF). Under the Proposed Action in the 2005 EA, NASA would construct new facilities, demolish old facilities, and improve existing facilities at WFF. In addition, NASA would expand operations at WFF while continuing existing operations. Operations activities considered in the 2005 EA included rocket launches of multiple vehicle types, including the Pegasus vehicle, among other flight-related activities. Under the FAA's Proposed Action as stated in the FONSI, the FAA would renew a Launch Operator License to Orbital Sciences Corporation for the continued operation of Pegasus expendable launch vehicles at WFF. A launch operator license would authorize launches of Pegasus vehicles over the 5-year term of the license.

In accordance with the requirements of FAA Order 1050.1E, Change 1, paragraph 410, the FAA has independently evaluated the information contained in the 2005 EA and has verified the continued validity of the analysis contained in the EA. The FAA has determined that the 2005 EA sufficiently addresses the concerns of the FAA and complies with FAA requirements for implementing NEPA as stated in FAA Order 1050.1E, Change 1. The FAA has determined that there is no new information or analysis that would require preparation of a new or supplemental EA or Environmental Impact Statement according to the CEQ Regulations (40 CFR 1502.9(c)(1)). Therefore, the FAA issues the FONSI concurring with the analysis of impacts and findings in the 2005 EA and formally adopts the EA in compliance with the requirements 40 CFR 1506.3 to support renewing a Launch Operator License to Orbital Sciences Corporation for the continued operation of Pegasus expendable launch vehicles at WFF. The 2005 EA is incorporated by reference and is summarized as necessary in the FONSI. NASA has posted the 2005 EA on the internet at http://sites.wff.nasa.gov/code250/docs/Final%20Site-Wide%20EA.pdf.

The FAA has posted the FONSI on the internet at http://www.faa.gov/about/office_org/headquarters_offices/ast/.

FOR FURTHER INFORMATION CONTACT: Mr. Daniel Czelusniak, Environmental Program Lead, Office of Commercial Space Transportation, Federal Aviation Administration, 800 Independence Avenue SW., Room 325, Washington, DC 20591, telephone (202) 267-5924; E-mail daniel.czelusniak@faa.gov.

Issued in Washington, DC on March 1, 2011.
Michael McElligott,
Manager, Space Systems Development Division.

[FR Doc. 2011-5104 Filed 3-4-11; 8:45 am]

BILLING CODE 4310-13-P